DEPARTMENT OF AGRICULTURE

Agricultural Marketing Service

7 CFR Parts 925 and 944

[Docket No. FV03-925-1 PR]

Grapes Grown in a Designated Area of Southeastern California and Imported Table Grapes; Extension of Comment Period on Changing Regulatory Periods

AGENCY: Agricultural Marketing Service, USDA.

ACTION: Extension of comment period.

SUMMARY: Notice is hereby given that the comment period on proposed changes in the regulatory periods when minimum grade, size, quality, and maturity requirements apply to southeastern California grapes under Marketing Order No. 925 (order), and to imported grapes under the table grape import regulation is extended until September 25, 2005.

DATES: Comments must be received by September 25, 2005.

ADDRESSES: Interested persons are invited to submit written comments concerning this proposal. Comments should be sent to the Docket Clerk, Marketing Order Administration Branch, Fruit and Vegetable Programs, AMS, USDA, 1400 Independence Avenue, SW., STOP 0237, Washington, DC 20250-0237; Fax: (202) 720-8938, E-mail: moab.docketclerk@usda.gov, or Internet: http://www.regulations.gov. All comments should reference the docket number and the date and page number of this issue, and the May 25, 2005, issue of the Federal Register and will be available for public inspection in the office of the Docket Clerk during regular business hours, or can be viewed at: http://www.ams.usda.gov/fv/moab.html.

FOR FURTHER INFORMATION CONTACT: California Marketing Field Office, Marketing Order Administration Branch, Fruit and Vegetable Programs, AMS, USDA, Telephone: (559) 487-5901, Fax: (559) 487-5906; or George Kelhart, Marketing Order Administration Branch, Fruit and Vegetable Programs, AMS, USDA, 1400 Independence Avenue, SW., STOP 0237, Washington, DC 20250-0237; Telephone: (202) 720-2491, or Fax: (202) 720-8938.

Small businesses may request information on complying with this regulation by contacting Jay Guerber, Marketing Order Administration Branch, Fruit and Vegetable Programs, AMS, USDA, 1400 Independence Avenue, SW., STOP 0237, Washington, DC 20250-0237; Telephone: (202) 720-2491, Fax: (202) 720-8938, or E-mail: Jay.Guerber@usda.gov.

SUPPLEMENTARY INFORMATION: A proposed rule was issued on May 20, 2005, and published in the Federal Register on May 25, 2005 (70 FR 30001). The proposed rule would change the regulatory periods when the minimum grade, size, quality, and maturity requirements apply to southeastern California grapes under Marketing Order No. 925 (order), and to imported grapes under the table grape import regulation.

Extensions were requested on behalf of the Chilean government and ASOEX, a trade association of Chilean fruit growers and fresh fruit exporters. ASOEX stated that its members represent approximately 90 percent of Chilean table grape imports to the United States. The extension will provide additional time for interested persons to analyze the proposal data and to submit written comments on the proposed rule.

After reviewing the requests, USDA is extending the comment period for 60 additional days or until September 25, 2005. This will provide interested persons a total of 120 days to review the proposed rule, perform a more complete analysis, and submit written comments. Interested persons who seek the data and reports referenced and discussed in the proposed rule published May 25, 2005 (70 FR 30001), may request such records pursuant to the Freedom of Information Act (5 U.S.C. 552). Such requests should be sent to Ms. Zipora Bullard, FOIA/PA Officer, Agricultural Marketing Service, USDA, Room 3517-S, 1400 Independence Avenue, SW., STOP 0237, Washington, DC 20250-0237.

Accordingly, the period in which to file written comments is reopened until September 25, 2005. This notice is issued pursuant to the Agricultural Marketing Agreement Act of 1937.

Authority: 7 U.S.C. 601-674.

Dated: July 20, 2005.
Kenneth C. Clayton,
Acting Administrator, Agricultural Marketing Service.

[FR Doc. 05-14673 Filed 7-21-05; 10:28 am]

BILLING CODE 3410-02-P